DEPARTMENT OF HEALTH AND HUMAN SERVICES

Food and Drug Administration

[Docket No. FDA-2024-N-0970]

Vaccines and Related Biological Products Advisory Committee; Amendment of Notice—Selection of the 2024 to 2025 Formula for COVID-19 Vaccines

AGENCY: Food and Drug Administration, HHS.

ACTION: Notice.

SUMMARY: The Food and Drug Administration (FDA) is announcing an amendment to the notice of meeting of the Vaccines and Related Biological Products Advisory Committee. This meeting was announced in the Federal Register of March 4, 2024. The amendment is being made to reflect a change in the meeting date in the SUMMARY and DATES portions of the document from May 16, 2024, to June 5, 2024. There are no other changes.

FOR FURTHER INFORMATION CONTACT: Kathleen Hayes or Prabhakara Atreya, Center for Biologics Evaluation and Research, Food and Drug Administration, 10903 New Hampshire Ave., Bldg. 71, Silver Spring, MD 20993-0002, 301-796-6985, CBERVRBPAC@fda.hhs.gov; or FDA Advisory Committee Information Line, 1-800-741-8138 (301-443-0572 in the Washington, DC area). Please call the Information Line for up-to-date information on this meeting. For press inquiries, please contact the Office of Media Affairs at 301-796-4540 or fdaoma@fda.hhs.gov.

SUPPLEMENTARY INFORMATION: In the Federal Register of March 4, 2024 (89 FR 15590), FDA announced that a meeting of the Vaccines and Related Biological Products Advisory Committee would be held on May 16, 2024. On page 15590, in the second column, the SUMMARY and DATES portions of the document are changed to read as follows:

SUMMARY: The Food and Drug Administration (FDA) announces a forthcoming public advisory committee meeting of the Vaccines and Related Biological Products Advisory Committee (the Committee). The general function of the Committee is to provide advice and recommendations to FDA on regulatory issues. On June 5, 2024, the Committee will meet in open session to discuss and make recommendations on the selection of the 2024 to 2025 formula for COVID-19 vaccines. The meeting will be open to the public.

DATES: The meeting will be held virtually on June 5, 2024, from 8:30 a.m. to 4:30 p.m. EST. This notice is issued under the Federal Advisory Committee Act 5 U.S.C. 1001 et seq. and 21 CFR part 14, relating to the advisory committees.

Dated: May 17, 2024.
Lauren K. Roth,
Associate Commissioner for Policy.

[FR Doc. 2024-11216 Filed 5-21-24; 8:45 am]

BILLING CODE 4164-01-P